DEPARTMENT OF COMMERCE

Foreign-Trade Zones Board

[B-80-2021]

Foreign-Trade Zone (FTZ) 27—Boston, Massachusetts, Notification of Proposed Production Activity, Wyeth Pharmaceuticals, LLC (mRNA Bulk Drug Substance), Andover, Massachusetts

Wyeth Pharmaceuticals, LLC (Wyeth) submitted a notification of proposed production activity to the FTZ Board for its facility in Andover, Massachusetts within Subzone 27R. The notification conforming to the requirements of the Board's regulations (15 CFR 400.22) was received on December 3, 2021.

Pursuant to 15 CFR 400.14(b), FTZ production activity would be limited to the specific foreign-status materials/components described in the submitted notification (summarized below) and subsequently authorized by the Board. The benefits that may stem from conducting production activity under FTZ procedures are explained in the background section of the Board's website—accessible via www.trade.gov/ftz. The proposed materials/components would be added to the production authority that the Board previously approved for the operation, as reflected on the Board's website.

The proposed foreign-status materials and components include Pyrophosphatase Inorganic Animal Origin Free (AOF), Rnase-Free Dnase I, Rnase Inhibitor, and Uridine-5′-triphosphate (UTP) (duty rate ranges from duty-free to 6.5%). The request indicates that certain materials/components are subject to duties under Section 301 of the Trade Act of 1974 (section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is January 19, 2022.

A copy of the notification will be available for public inspection in the “Online FTZ Information System” section of the Board's website.

For further information, contact Diane Finver at Diane.Finver@trade.gov.

Dated: December 6, 2021.
Elizabeth Whiteman,
Acting Executive Secretary.

[FR Doc. 2021-26761 Filed 12-9-21; 8:45 am]

BILLING CODE 3510-DS-P